DEPARTMENT OF THE INTERIOR

Bureau of Land Management

[LLORL00000-L10200000.MJ0000.LXSS021H0000; HAG 09-0201]

Notice of Meeting, Southeast Oregon Resource Advisory Council (Oregon)

AGENCY: Bureau of Land Management, Interior.

ACTION: Notice of public meeting.

SUMMARY: Pursuant to the Federal Land Policy and Management Act and the Federal Advisory Committee Act, the U.S. Department of the Interior, Bureau of Land Management (BLM) Southeast Oregon Resource Advisory Council (SEORAC) will meet as indicated below:

DATES: The meeting will begin at 7 p.m. on July 1, 2009.

ADDRESSES: The Council will meet by teleconference. For a copy of the material to be discussed and/or the conference call number, please contact Scott Stoffel; information below.

FOR FURTHER INFORMATION CONTACT: Scott Stoffel, Public Affairs Specialist, 1301 South G Street, Lakeview, OR 97630, (541) 947-6237.

SUPPLEMENTARY INFORMATION: The SEORAC advises the Secretary of the Interior, through the BLM, on a variety of planning and management issues for public lands in the Lakeview, Burns and Vale BLM Districts and the Fremont-Winema and Malheur National Forests. The Council will conduct a public meeting by teleconference on July 1, 2009 to discuss and come to consensus on the contents of comments to be sent to the BLM's Oregon/Washington State Director on the Draft Environmental Impact Statement for Vegetation Treatments Using Herbicides on BLM Lands in Oregon. The public is welcome to listen to the entire teleconference and make oral comments to the Council from 7:45 p.m. to 8 p.m.

Dated: May 27, 2009.
Carol A. Benkosky,
District Manager, Lakeview District Office.

[FR Doc. E9-13106 Filed 6-4-09; 8:45 am]

BILLING CODE 4310-33-P